DEPARTMENT OF ENERGY

Ultra-Deepwater and Unconventional Natural Gas and Other Petroleum Resources Research and Development Program 2009 Annual Plan

AGENCY: Office of Fossil Energy, Department of Energy (DOE).

ACTION: Notice of Report Availability.

SUMMARY: The Office of Fossil Energy announces the availability of the 2009 Annual Plan for the Ultra-Deepwater and Unconventional Natural Gas and Other Petroleum Resources Research and Development Program on the DOE Web site at http://management.energy.gov/FOIA/1480.htm or in print form (see CONTACT below). The 2009 Annual Plan is in compliance with the Energy Policy Act of 2005, Subtitle J, Section 999B(e)(3), which requires the publication of this plan and all written comments in the Federal Register.

FOR FURTHER INFORMATION CONTACT: Elena Melchert, U.S. Department of Energy, Office of Oil and Natural Gas, Mail Stop FE-30, 1000 Independence Avenue, SW., Washington, DC 20585 or phone: 202-586-5600 or e-mail to UltraDeepwater@hq.doe.gov.

SUPPLEMENTARY INFORMATION: Executive Summary [excerpted from the 2009 Annual Plan p. 3].

This document is the 2009 Annual Plan for the Ultra-Deepwater and Unconventional Natural Gas and Other Petroleum Resources Research and Development Program established pursuant to Title IX, Subtitle J (Subtitle J) of the Energy Policy Act of 2005 (EPAct). Subtitle J is reproduced in Appendix A to the 2009 Annual Plan.

As required by Subtitle J, the Department of Energy (DOE) contracted with a consortium (Program Consortium) to administer three program elements identified in EPAct: Ultra-deepwater architecture and technology, unconventional natural gas and other petroleum resources exploration and production technology, and technology challenges of small producers.

A fourth program element of complementary research identified in EPAct is being performed by the National Energy Technology Laboratory (NETL). NETL is also tasked with management of the consortium contract, and review and oversight of the Program Consortium.

In 2006, NETL awarded a contract to the Research Partnership to Secure Energy for America (RPSEA) to function as the Program Consortium.

The 2007 Annual Plan, the first annual plan, resulted in a total of 15 solicitations from which 43 projects were selected.

In August 2008, the 2008 Annual Plan was transmitted to Congress and published in the Federal Register. Implementation will include a total of 13 solicitations that are expected to be issued by the Program Consortium in late fall/early winter 2008, with selections anticipated in early 2009.

As further required by Subtitle J, in September 2008, two Federal advisory committees, the Ultra-Deepwater Advisory Committee and the Unconventional Resources Technology Advisory Committee, began their respective reviews of the draft 2009 Annual Plan. In October 2008, the two advisory committees provided their recommendations.

Section 999B(e)(3) of EPAct requires DOE to publish all written comments on the annual plan. Accordingly, the Program Consortium's final 2009 draft Annual Plan is included here as Appendix B and the comments and recommendations provided by the advisory committees are included here as Appendix C. No other written comments were received.

The 2009 Annual Plan provides a comprehensive outline of the Program Consortium's research activities planned for 2009. The primary focus of these activities is to fill in any technology gaps not addressed by the projects and solicitations to date. A highlight of this year's plan is the attention that will be given to technology transfer.

Technology transfer is an important focus of the program. Section 999C(d) of EPAct requires 2.5% of the amount of each award to be designated for technology transfer activities. The Federal advisory committees recommended that more information on technology transfer be included in future annual plans. In response, the 2009 Annual Plan includes the structure for the overall technology transfer program.

Section 999 H(a) of EPAct provides that the Ultra-Deepwater and Unconventional Natural Gas and Other Petroleum Research Fund be funded at $50-million-per-year, with funds generated from Federal lease royalties, rents, and bonuses paid by oil and gas companies. Seventy-five percent of these funds are obligated to the Program Consortium's contract to execute three program elements. After allocations for program management by NETL and program administration by the Program Consortium, the amount to be invested in research activities by the Program Consortium totals $31.88 million per year.

Under the Stage/Gate approach applied to prior year activities, all Program Consortium administered projects will be fully funded to the completion of the appropriate decision point identified in each contract, which may include multiple stages. If a decision is made to move to the next stage or decision point or to gather additional data, additional funding will be provided from available funds.

The NETL Strategic Center for Natural Gas and Oil is responsible for management of the consortium contract, and review and oversight of the Program Consortium. Complementary R&D is being carried out by NETL's Office of Research and Development. Planning and analysis related to the program, including benefits assessment and technology impacts analysis, is being carried out by NETL's Office of Systems, Analysis, and Planning.

Section 999F of EPAct contains a general sunset provision for Title IX, Subtitle J, of September 30, 2014.

Issued in Washington, DC, on January 9, 2009.
Guido DeHoratiis,
Acting Deputy Assistant Secretary, Office of Oil and Natural Gas, Office of Fossil Energy.

[FR Doc. E9-1689 Filed 1-26-09; 8:45 am]

BILLING CODE 6450-01-P